DEPARTMENT OF HOUSING AND URBAN DEVELOPMENT

[Docket No. FR-7080-N-52]

30-Day Notice of Proposed Information Collection: FHA-Insured Mortgage Loan Servicing of Delinquent, Default, and Foreclosure With Service Members Act; OMB Control No.: 2502-0584

AGENCY: Office of Policy Development and Research, Chief Data Officer, HUD.

ACTION: Notice.

SUMMARY: HUD is seeking approval from the Office of Management and Budget (OMB) for the information collection described below. In accordance with the Paperwork Reduction Act, HUD is requesting comments from all interested parties on the proposed collection of information. The purpose of this notice is to allow for an additional 30 days of public comment.

DATES: Comments Due Date: November 25, 2024.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Colette Pollard, Reports Managment Officer, REE, Department of Housing and Urban Development, 451 7th Street SW, Room 8210, Washington, DC 20410-5000; email PaperworkReductionActOffice@hud.gov.

FOR FURTHER INFORMATION CONTACT: Colette Pollard, Reports Management Officer, REE, Department of Housing and Urban Development, 7th Street SW, Room 8210, Washington, DC 20410; email Colette.Pollard@hud.gov or telephone (202) 402-3400. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Pollard.

SUPPLEMENTARY INFORMATION: This notice informs the public that HUD is seeking approval from OMB for the information collection described in Section A.

The Federal Register notice that solicited public comment on the information collection for a period of 60 days was published on June 25, 2024 at 89 FR 53117.

A. Overview of Information Collection

Title of Information Collection: FHA-Insured Mortgage Loan Servicing of Delinquent, Default, and Foreclosure with Service Members Act.

OMB Approval Number: 2502-0584.

Type of Request: Revision of currently approved collection.

Form Numbers: HUD 92070, HUD-2008-5-FHA, HUD 92068-A, HUD-50012, HUD-90041.

Description of the need for the information and proposed use: This request for information collection encompasses requirements for both FHA-approved Mortgagees who service FHA-insured mortgages and FHA-insured Mortgagors (borrowers). Information received must comply with delinquency and default servicing, foreclosure, and the Servicemembers Civil Relief Act (SCRA) requirements. The need and proposed use of the collection efforts for non-performing FHA-insured mortgages is to bring a delinquent mortgage current as quickly as possible, avoid foreclosure when feasible, and minimize losses to FHA's Mutual Mortgage Insurance Fund.

Estimated Number of Respondents: 3,360.

Frequency of Response: Monthly.

Estimated Number of Responses: 26,668,067.

Average Hours per Response: 1.05.

Total Estimated Burdens: 15,723,493.

Information collection | Number of respondents | Frequency of response | Responses per annum | Burden hour per response | Annual burden hours | Hourly cost per response | Annual cost
FHA-Insured Mortgage Loan Servicing of Delinquent, Default, and Foreclosure with Service Members Act | 3,360 | Monthly | 26,668,067 | 1.05 | 15,723,493 | $34.16 | $537,114,520
Totals | 3,360 |  | 26,668,067 |  | 15,723,493 | 34.16 | 537,114,520

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) Ways to minimize the burden of the collection of information on those who are to respond, including the use of automated collection techniques or other forms of information technology.

HUD encourages interested parties to submit comment in response to these questions.

C. Authority

Section 3507 of the Paperwork Reduction Act of 1995, 44 U.S.C. chapter 35.

Colette Pollard,
Department Reports Management Officer, Office of Policy Development and Research, Chief Data Officer.

[FR Doc. 2024-24867 Filed 10-24-24; 8:45 am]

BILLING CODE 4210-67-P